FEDERAL MARITIME COMMISSION

Ocean Transportation Intermediary License Applicants

Notice is hereby given that the following applicants have filed with the Federal Maritime Commission an application for license as a Non-Vessel Operating Common Carrier and Ocean Freight Forwarder—Ocean Transportation Intermediary pursuant to section 19 of the Shipping Act of 1984 as amended (46 U.S.C. app. 1718 and 46 CFR part 515).

Persons knowing of any reason why the following applicants should not receive a license are requested to contact the Office of Transportation Intermediaries, Federal Maritime Commission, Washington, DC 20573.

Non-Vessel Operating Common Carrier Ocean Transportation Intermediary Applicants

Pacheco Express Shipping, Inc., 1570 Webster Avenue, Bronx, NY 10457, Officers: Luis Hernandez, President, (Qualifying Individual), Nieulka D. Rivera, Vice President.

Vizion Logistics, L.L.C., 2275 Huntington Drive, #816, San Marino, CA 91108, Officers: Albert Wei, President, (Qualifying Individual), Benjamin Wei, Vice President.

Willy Express Shipping Inc., 1327 Webster Avenue, Bronx, NY 10456, Officers: Nelson W. Rivera, President, (Qualifying Individual).

City Ocean International, Inc., 17800 Castleton Street, #388, City of Industry, CA 91748, Officers: Rachel Zhu Zhou, Vice President, (Qualifying Individual), Qi Wang, C.F.O.

Ocean Freight Forwarder—Ocean Transportation Intermediary Applicant

Action International Movers, Inc., 10004 Belhaven Road, Bethesda, MD 20817, Officer: Bertrand Peltier, President, (Qualifying Individual).

Dated: December 6, 2002.
Bryant L. VanBrakle,
Secretary.

[FR Doc. 02-31222 Filed 12-10-02; 8:45 am]

BILLING CODE 6730-01-P